DEPARTMENT OF HEALTH AND HUMAN SERVICES

Charter Renewal of the Secretary's Advisory Committee on National Health Promotion and Disease Prevention Objectives for 2030

AGENCY: Department of Health and Human Services, Office of the Secretary, Office of the Assistant Secretary for Health, Office of Disease Prevention and Health Promotion.

ACTION: Notice.

SUMMARY: The U.S. Department of Health and Human Services (HHS) is hereby giving notice that the charter for the Secretary's Advisory Committee on National Health Promotion and Disease Prevention Objectives for 2030 (Committee) has been renewed.

FOR FURTHER INFORMATION CONTACT: Emmeline Ochiai, Designated Federal Official, Secretary's Advisory Committee on National Health Promotion and Disease Prevention Objectives for 2030, U.S. Department of Health and Human Services, Office of the Assistant Secretary for Health, Office of Disease Prevention and Health Promotion, 1101 Wootton Parkway, Room LL-100, Rockville, MD 20852, (240) 453-8255 (telephone), (240) 453-8281 (fax). Additional information is available on the Healthy People website at http://www.healthypeople.gov.

SUPPLEMENTARY INFORMATION: The Committee is a discretionary federal advisory committee. Under 42 U.S.C. 300u, the Secretary of Health and Human Services (the Secretary) has authority to undertake and support necessary activities and programs to (a) incorporate appropriate health education components into our society, especially into all aspects of education and health; (b) increase the application and use of health knowledge, skills, and practices by the general population in its patterns of daily living; and (c) establish systematic processes for the exploration, development, demonstration, and evaluation of innovative health promotion concepts. Under Title XVII, Section 1701 of the Public Health Service Act, the Secretary is given authority to formulate national goals and a strategy to achieve such goals, with respect to health information and health promotion, preventive health services, and education in the appropriate use of health care. In 1979, the Department of Health and Human Services (HHS) established the Healthy People initiative to develop a framework for improving the health of all people in the United States. Healthy People provides evidence-based, ten-year national objectives for improving the health of all Americans. Healthy People offers a strategic agenda to align health promotion and disease prevention activities in communities around the country. It includes measurable objectives with targets to be reached by the end of each decade. The Committee is governed by provisions of the Federal Advisory Committee Act (FACA), Public Law 92-463, as amended (5 U.S.C., App.), which sets forth standards for the formation and use of federal advisory committees. The Committee advises and makes recommendations to the Secretary on matters regarding the development and implementation of Healthy People 2030, the nation's disease prevention and health promotion objectives for 2030.

To carry out is charge, the Committee will provide advice about the Healthy People 2030, the Leading Health Indicators, implementation, and actions for achieving Healthy People 2030 goals and objectives. The Committee's advice must assist the Secretary in reducing the number of objectives while ensuring that Healthy People 2030 identifies the most critical public health issues that are high-impact priorities supported by current, national data sets. The Committee will take into account new scientific evidence, resource documents, the needs of Healthy People stakeholders, and the value of assessing progress over the course of the decade. Furthermore, the Committee will advise the Secretary on strategies the department can use to maximize stakeholder use of Healthy People 2030 and ensure implementation of Healthy People 2030.

On May 21, 2018, the Secretary approved renewal of the Committee's charter. The new charter was effected and filed with the appropriate Congressional committees and the Library of Congress on June 1, 2018. Renewal of the Committee's charter gives authorization for the Committee to continue to operate until June 1, 2020.

A copy of the Committee's charter is available on the Committee's website at https://www.healthypeople.gov/2020/About-Healthy-People/Development-Healthy-People-2030/Advisory-Committee. A copy of the charter also can be obtained by accessing the FACA database that is maintained by the Committee Management Secretariat under the General Services Administration. The website address for the FACA database is https://facadatabase.gov.

Donald Wright,
Deputy Assistant Secretary for Health (Disease Prevention and Health Promotion).

[FR Doc. 2018-12661 Filed 6-12-18; 8:45 am]

BILLING CODE 4150-32-P